DEPARTMENT OF ENERGY

Federal Energy Regulatory Commission

[Docket No. CP04-349-000]

Columbia Gas Transmission Corporation; Renotice of Application and Extension of Time

September 30, 2004.

On June 8, 2004, the Commission issued the following Notice of Application (Notice) in the above-docketed proceeding. The Notice was issued and served on all parties to the proceeding but inadvertently, the Notice was not published in the Federal Register. By the instant notice, the initial Notice is reissued and the time for filing interventions, comments, and protests is extended to and including October 12, 2004. The text of the initial Notice follows.

On June 3, 2004, Columbia Gas Transmission Corporation (Columbia), at 12801 Fair Lakes Parkway, Fairfax, Virginia 22030-0146, filed an application in the above referenced docket, pursuant to Sections 7(b) and 7(c) of the Natural Gas Act, as amended, to abandon its storage injection/withdrawal Well 8901, to construct new injection/withdrawal Well 12446 and appurtenances including 0.01 mile of 6-inch well line (SLW-12446), and extend SLW-9623 0.02 mile with 4-inch pipeline, all located in Ashland County, Ohio in Columbia's Pavonia Storage Field. This filing is available for review at the Commission in the Public Reference Room or may be viewed on the Commission's Web site at http://www.ferc.gov using the “e-Library” link. Enter the docket number excluding the last three digits in the docket number field to access the document. For assistance, please contact FERC Online at FERCOnlineSupport@ferc.gov or toll free, (866) 208-3676, or TTY, contact (202) 502-8659.

Any questions regarding this application should be directed to counsel for Columbia, Fredric J. George, at (304) 357-2359, fax (304) 357-3206.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10).

A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 385.2001(a)(1)(iii) and the instructions on the Commission's Web site under the “e-Filing” link. The Commission strongly encourages electronic filings.

Comment Date: October 12, 2004.

Magalie R. Salas,
Secretary.

[FR Doc. E4-2508 Filed 10-5-04; 8:45 am]

BILLING CODE 6717-01-P